DEPARTMENT OF HOUSING AND URBAN DEVELOPMENT

[Docket No. FR-5613-N-02]

Privacy Act: Notification of a New Privacy Act System of Records, Veterans Homelessness Prevention Demonstration Evaluation Data Files System

AGENCY: Office of the Chief Information Officer, HUD.

ACTION: Notification of a New Privacy Act System of Records.

SUMMARY: The Department of Housing and Urban Development (HUD) proposes to establish a new Privacy Act of 1974 (5 U.S.C. 552a) System of Records Notice (SORN) for the Veterans Homelessness Prevention Demonstration Evaluation Data Files (VHPD Data Files) system. The VHPD Data Files system will involve collaborative efforts needed to evaluate certain HUD homelessness prevention programs. The demonstration evaluation will involve data analysis from particular jurisdictions to assist HUD's Office of Policy Development and Research (PD&R) and its researchers with examining cross-agency coordination, expanding data collection and analysis, conducting comprehensive program evaluations, and enhancing homelessness prevention efforts. HUD's Office of Policy Development and Research is focusing on data collection efforts, analysis, research, and program evaluation to promote better practice and outcomes in certain homelessness prevention programs to assist with resolving complex matters affecting homelessness among veterans.

DATES: Comments Due Date: June 1, 2012.

ADDRESSES: Interested persons are invited to submit comments regarding this notice to the Rules Docket Clerk, Office of General Counsel, Department of Housing and Urban Development, 451 Seventh Street SW., Room 10276, Washington, DC 20410-3000. Communications should refer to the above docket number and title. Fax comments are not acceptable. A copy of each communication submitted will be available for public inspection and copying between 8:00 a.m. and 5:00 p.m., weekdays at the above address.

FOR FURTHER INFORMATION CONTACT: Harold Williams, Acting Chief Privacy Officer, 451 Seventh Street SW., Room 4156, Washington, DC 20410, Telephone Number (202) 402-8087. (This is not a toll-free number.) A telecommunication device for hearing- and speech-impaired individuals (TTY) is available at (800) 877-8339 (Federal Information Relay Service).

SUPPLEMENTARY INFORMATION: Pursuant to the Privacy Act of 1974 (5 U.S.C. 552a (e)(4) and (11), as amended, notice is given that HUD proposes to establish a new system of records identified as the Veterans Homelessness Prevention Demonstration Evaluation Data Files (VHPD Data Files) system. Title 5 U.S.C. 552a(e)(4) and (11) provide that the public be afforded a 30-day period in which to comment on the new system of records.

The new system report was submitted to the Office of Management and Budget (OMB), the Senate Committee on Governmental Affairs, and the House Committee on Government Reform pursuant to Paragraph 4c of Appendix 1 to OMB Circular No. A-130, “Federal Responsibilities for Maintaining Records About Individuals,” July 25, 1994 (59 FR 37914).

Authority: 5 U.S.C. 552a 88 Stat. 1896; 42 U.S.C. 3535(d).

Dated: April 25, 2012.
Jerry E. Williams,
Chief Information Officer.

HUD/PD&R.01

SYSTEM NAME:

Veterans Homelessness Prevention Demonstration Evaluation Data Files System (VHPD Data Files).

SYSTEM LOCATION:

Silber & Associates, 13067 Twelve Hills Road, Suite B Clarksville, Maryland 21029-1144; Urban Institute, 2100 M Street NW., Washington, DC 20037.

CATEGORIES OF INDIVIDUALS COVERED BY THE SYSTEM:

Persons enrolled in VHPD, the Homelessness Prevention and Rapid Re-housing Program (HPRP), and Veterans Affairs medical service centers.

CATEGORIES OF RECORDS IN THE SYSTEM:

Some but not all records under this System of Records Notice will be derived from the Homeless Management Information System (HMIS) and the Veteran Affairs Medical Centers (VAMC) records that collect homeless data. Other records, including personal and sensitive information, will be obtained from persons enrolled in VHPD, as follows: name, social security number, participant study unique ID, date of birth, home address, home telephone, and personal email address, as well as names and contact information for up to three friends and/or family members. The dataset will also contain sensitive information, including race/ethnicity, gender, marital status, spouse's name, number of children, income and financial data (earned income, benefit receipt, including Supplementary Social Security Income, Social Security Disability Insurance, Temporary Assistance for Needy Families and other benefits, and assets), employment history, educational level, medical history and information, disability, criminal record, residential history, homeless program utilization, barriers to housing, and veteran status.

AUTHORITY FOR MAINTENANCE OF THE SYSTEM:

Housing and Urban Development Act of 1970, Section 502 (Pub. L. 91-609; 84 Stat. 1784; 12 U.S.C. 1701z-1 et seq.)

PURPOSES:

The system of records will enable evaluation of the Veterans Homelessness Prevention Demonstration. The Notice of Funding Availability (NOFA) issued by HUD stated that “the evaluation will include an in-depth exploration of programs developed in each of the five sites.” The five sites are: Camp Pendleton (San Diego, CA); Fort Hood (Killeen, TX); Fort Drum (Watertown, NY); Joint Base Lewis-McChord (Tacoma, WA); MacDill Air Force Base (Tampa, FL). The Notice directs the evaluation to focus particular attention “on the structure and effectiveness” of collaboration at the local level between the local Continuum of Care grantee, the Veterans Administration and the Department of Labor. The evaluation will assess the effectiveness of homelessness prevention assistance delivered through this demonstration program; outcomes of interest include housing stability, earnings, employment, and access to health services. Further, the evaluation will investigate the unique needs of new cohorts of veterans, especially veterans of Operation Enduring Freedom and Operation Iraqi Freedom, particular types of veterans, such as female veterans, members of the National Guard and Reserve, military families and veterans with combat-related risk factors. To measure the effectiveness of the program, the evaluation will follow veterans and their families after program completion and ascertain if there have been any improvements in measures of housing stability, self-sufficiency, employment and earnings, family well-being, and health. There will be two types of data files created as part of this evaluation: a Master File will be created that contains personally identifying information but does not contain study data. A Study File will be created that does not contain any personally identifying information. The only variable in both the Master File and the Study File will be a numeric unique study identifier. The Study File will be used for data analysis and will be stored in a separate location from the Master File that contains identifying information. This will enable the Master File to be used for follow-up contacts and for linking data from administrative datasets, while minimizing the risk to confidentiality. The evaluation goal is to collect data to enable analysis, research, and program evaluation to promote better practice and monitoring of outcomes in certain HUD homelessness prevention programs, to assist with resolving complex matters affecting veteran homelessness today.

ROUTINE USES OF RECORDS MAINTAINED IN THE SYSTEM, INCLUDING CATEGORIES OF USERS AND THE PURPOSES OF SUCH USES:

The proposed routine use disclosures of data in the system are all necessary for, or at least compatible with, the purposes for which the SOR will be created. We propose to establish the following routine use disclosures of information maintained in the system:

1. To a Congressional office from the record of an individual in response to an inquiry from that Congressional office made at the request of the individual to whom the records pertain;

2. To the National Archives and Records Administration or other Federal Records management agency pursuant to records management inspections being conducted under the authority of 44 U.S.C. 2904 and 2906;

3. To the Department of Justice (DOJ) when seeking legal advice or for use in any proceeding, or in preparation for any proceeding, when HUD or any component thereof disclose information to DOJ during the course of an investigation to the extent necessary to obtain information pertinent to the investigation under applicable HUD administered Rental Housing Assistance Programs;

4. To contract researchers, researchers consultants, grantees and their employees authorized to collect, analyze, and write reports about the data as needed to evaluate the effectiveness of prevention homeless assistance efforts; to analyze primary study data with administrative data as needed to track program participants' outcomes as required for the evaluation research; to conducting research and statistical analyses and for writing reports related to the evaluation of HUD programs and demonstrations relevant to this system of records pursuant to an approved data sharing agreement; and

5. To appropriate agencies, entities, and persons when: (a) HUD or a provider of service to HUD suspects or has confirmed that the security or confidentiality of the system of records has been compromised; (b) the Department has determined that as a result of the suspected or confirmed compromise there is a risk of harm to economic or property interests, identity theft or fraud, or harm to the security or integrity of this system or other systems or programs (whether maintained by HUD or another agency or entity) that rely upon compromised information; and (c) the disclosure made to such agencies, entities, and persons is reasonably necessary to assist HUD's efforts to respond to the suspected or confirmed compromise and prevent, minimize, or remedy such harm.

POLICIES AND PRACTICES FOR STORING, RETRIEVING, ACCESSING, RETAINING, AND DISPOSING OF RECORDS IN THE SYSTEM:

STORAGE:

Survey and administrative data will be stored on a secure, password-protected network drive. Only personnel authorized by the project director will be given access using technical controls based on access policies administered by the system administrator. Hard copies, including DVDs and other records, are stored in locked cabinets to which only authorized personnel have access.

RETRIEVABILITY:

When used for data analysis, records are retrieved by unique study identifier. To link data from administrative sources to study data records are retrieved by social security number.

SAFEGUARDS:

Hard copy files are stored in a locked file which can be accessed only by staff who have signed a Staff Confidentiality Pledge. Each data user's permissions will be defined based on the user's role in the project. Study data will be aggregated or de-identified at the highest level possible for each, required, authorized use. Survey and administrative data will be stored on a secure, password-protected network drive. Authorized personnel accessing the data through the survey system will be monitored through a secured restricted access monitoring system, which complies with Federal Information Processing Standards (FIPS). Data is protected by endpoint protection, firewall access controls and policies that provide access to authorized personnel only. Full disk encryption and software and client firewall policies are implemented. Authorized uses are allowed access with user name and password. The system resides on locked premises and is accessible only by the system administrator.

RETENTION AND DISPOSAL:

All hard copy data files and materials containing personal identifiers will be destroyed within six months of project completion in 2014. The Master File containing personally identifiable information will be destroyed within 6 months of study completion using a method described by the NIST SP 800-88 “Guidelines for Media Sanitization” (September 2006). At the end of the contract, dvd(s) and hardcopy records that do not need to be retained will be shredded and the remainder of the files will be shredded after the three-year retention period required in the contract. Stripped electronic data files that do not contain any personally identified information will be retained permanently in accord with 44 U.S.C. 101 and the policies governing retention and disposal of research data in HUD Handbook 2225.6 (Appendices 9 and 67) and HUD Handbook 2229.1.

SYSTEM MANAGER(S) AND ADDRESS:

Carol S. Star, Director, Department of Housing and Urban Development, Office of Policy Development & Research, Division of Program Evaluation, 451 Seventh Street SW., Room 8120, Washington, DC 20410.

NOTIFICATION PROCEDURES:

For information, assistance, or inquiry about the existence of records, contact Harold Williams, Acting Chief Privacy Officer, Department of Housing and Urban Development, 451 Seventh Street SW., Room 4156, Washington, DC 20410.

RECORD ACCESS PROCEDURES:

Individuals seeking to determine whether this system of records contains information about them, or those seeking access to such records, should address inquiries to Harold Williams, Acting Chief Privacy Officer, Department of Housing and Urban Development, 451 Seventh Street SW., Room 4156, Washington, DC 20410. Provide verification of your identity by providing two proofs of official identification. Your verification of identity must include your original signature and must be notarized.

CONTESTING RECORD PROCEDURES:

The Department's rules for contesting the contents of records and appealing initial denials, by the individual concerned, appear in 24 CFR part 16. If additional information or assistance is needed, it may be obtained by contacting:

(i) Contesting contents of records: U.S. Department of Housing and Urban Development, Chief Privacy Officer, 451 Seventh Street SW., Washington, DC 20410;

(ii) Appeals of initial HUD determinations: In relation to contesting contents of records, the HUD Departmental Privacy Appeals Officers, Office of General Counsel, Department of Housing and Urban Development, 451 Seventh Street SW., Washington, DC 20410.

RECORD SOURCE CATEGORIES:

Information is obtained from the record subjects and the Homeless Management Information Systems in participating Continuums of Care.

EXEMPTION FROM CERTAIN PROVISIONS OF THE ACT:

None.

[FR Doc. 2012-10581 Filed 5-1-12; 8:45 am]

BILLING CODE 4210-67-P